DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than December 20, 2013.

Interested persons are invited to submit written comments regarding the subject matter of the investigations to the Director, Office of Trade Adjustment Assistance, at the address shown below, not later than December 20, 2013.

The petitions filed in this case are available for inspection at the Office of the Director, Office of Trade Adjustment Assistance, Employment and Training Administration, U.S. Department of Labor, Room N-5428, 200 Constitution Avenue NW., Washington, DC 20210.

Signed at Washington, DC, this 27th day of November 2013.
Michael W. Jaffe,
Certifying Officer, Office of Trade Adjustment Assistance.

Appendix
[18 TAA petitions instituted between 11/18/13 and 11/22/13]
TA-W | Subject firm (petitioners) | Location | Date of institution | Date of petition
83221 | State Industries (State/One-Stop) | Eugene, OR | 11/19/13 | 11/13/13
83222 | Advance Auto Parts (Workers) | Roanoke, VA | 11/19/13 | 11/18/13
83223 | CDS Publications/Yamagata (State/One-Stop) | Vista, CA | 11/19/13 | 11/17/13
83224 | Blake One, Inc. (State/One-Stop) | New York, NY | 11/19/13 | 11/18/13
83225 | Pilkington, NA (Union) | Lathrop, CA | 11/19/13 | 11/18/13
83226 | American Express, World Service (State/One-Stop) | Salt Lake City, UT | 11/19/13 | 11/18/13
83227 | CCL Industries, frmly Avery North America Supply Chain (Union) | Chicopee, MA | 11/20/13 | 11/19/13
83228 | Covidien (Company) | Argyle, NY | 11/20/13 | 11/19/13
83229 | Amphenol Aerospace (Union) | Sidney, NY | 11/20/13 | 11/20/13
83230 | IBM Corporation (Workers) | Somers, NY | 11/20/13 | 11/19/13
83231 | VISA INC. (State/One-Stop) | Highlands Ranch, CO | 11/21/13 | 11/20/13
83232 | Glen Oak Lumber & Milling, Inc. (Company) | Montello, WI | 11/21/13 | 11/20/13
83233 | Meggitt Aircraft Braking Systems (Union) | Akron, OH | 11/21/13 | 11/20/13
83234 | Keywell LLC (Company) | West Mifflin, PA | 11/21/13 | 11/20/13
83235 | QBE (Workers) | Sun Praire, WI | 11/22/13 | 11/21/13
83236 | Cameron International, Compression Specialties, Inc. (Workers) | Ponca City, OK | 11/22/13 | 11/21/13
83237 | REC Advanced Silicon Materials LLC (Company) | Silver Bow, MT | 11/22/13 | 11/21/13
83238 | Keywell LLC (Company) | Chicago, IL | 11/22/13 | 11/21/13

[FR Doc. 2013-29361 Filed 12/09/2013 at 8:45 a.m.;

[FR Doc. 2013-29361 Filed 12-9-13; 8:45 am]

BILLING CODE 4510-FN-P